DEPARTMENT OF HEALTH AND HUMAN SERVICES

Office of the Secretary

Delegation of Authority

Notice is hereby given that I have delegated to the Administrator, Health Resources and Services Administration (HRSA), or their successor, the authorities that are vested in the Secretary of Health and Human Services under section 1150C of the Social Security Act (42 U.S.C. 1301 et seq.), as added by section 9911 of the American Rescue Plan Act of 2021 (Pub. L. 117-2). This authorizes the HRSA Administrator, on behalf of the Secretary, to make payments to rural providers and suppliers for health care related expenses and lost revenues that are attributable to COVID-19. This delegation does not confer authority to issue regulations. These authorities may be redelegated.

This delegation of authority is effective upon date of signature.

Dated: August 9, 2021.
Xavier Becerra,
Secretary, Department of Health and Human Services.

[FR Doc. 2021-17212 Filed 8-11-21; 8:45 am]

BILLING CODE 4150-03-P